DEPARTMENT OF COMMERCE

National Oceanic and Atmospheric Administration

[I.D. 050107C]

North Pacific Fishery Management Council; Public Meeting

AGENCY: National Marine Fisheries Service (NMFS), National Oceanic and Atmospheric Administration (NOAA), Commerce.

ACTION: Notice of public meetings.

SUMMARY: The North Pacific Fishery Management Council (Council) Observer Advisory Committee will meet in Seattle, WA.

DATES: The meeting will be held on May 21, 2007, from 12:30 p.m. to 5 p.m. and May 22, 2007, from 8:30 a.m. to 5 p.m.

ADDRESSES: The meeting will be held at the Alaska Fishery Science Center, 7600 Sand Point Way NE, Bldg 4, Room 1055, Seattle, WA 98115.

Council address: North Pacific Fishery Management Council, 605 W. 4th Ave., Suite 306, Anchorage, AK 99501-2252.

FOR FURTHER INFORMATION CONTACT: Nicole Kimball, Council staff, telephone: (907) 271-2809.

SUPPLEMENTARY INFORMATION: The Committee will review proposed regulatory changes to the existing North Pacific Fishery Groundfish Observer Program and provide recommendations on alternatives and options for analysis.

Special Accommodations

The meeting is physically accessible to people with disabilities. Requests for sign language interpretation or other auxiliary aids should be directed to Gail Bendixen at (907) 271-2809 at least 7 working days prior to the meeting date.

Dated: May 1, 2007.
Tracey L. Thompson,
Acting Director, Office of Sustainable Fisheries, National Marine Fisheries Service.

[FR Doc. E7-8543 Filed 5-3-07; 8:45 am]

BILLING CODE 3510-22-S